SMALL BUSINESS ADMINISTRATION

13 CFR Ch. I

Semiannual Regulatory Agenda

AGENCY: U.S. Small Business Administration (SBA).

ACTION: Semiannual Regulatory Agenda.

SUMMARY: This semiannual Regulatory Agenda (Agenda) is a summary of current and projected rulemakings and completed actions of the Small Business Administration (SBA). This summary information is intended to enable the public to be more aware of, and effectively participate in, SBA's regulatory activities. Accordingly, SBA invites the public to submit comments on any aspect of this Agenda.

FOR FURTHER INFORMATION CONTACT:

General: Please direct general comments or inquiries to Lindsey K. McCready, U.S. Small Business Administration, 409 Third Street SW, Washington, DC 20416; (202) 401-2996; lindsey.mccready@sba.gov.

Specific: Please direct specific comments and inquiries on individual regulatory activities identified in this Agenda to the individual listed in the summary of the regulation as the point of contact for that regulation.

SUPPLEMENTARY INFORMATION: The Regulatory Flexibility Act (RFA) requires SBA to publish in the Federal Register a semiannual regulatory flexibility agenda describing those Agency rules that are likely to have a significant economic impact on a substantial number of small entities (5 U.S.C. 602). The summary information published in the Federal Register is limited to those rules. Additional information regarding all of the rulemakings SBA expects to consider in the next 12 months is included in the Federal Government's unified Regulatory Agenda, which will be available online at www.reginfo.gov in a format that offers users enhanced ability to obtain information about SBA's rules.

Kelly Loeffler,
Administrator.

Small Business Administration—Proposed Rule Stage
Sequence No. | Title | Regulation Identifier No.
180 | Export Working Capital Program | 3245-AI07
181 | Small Business Size Standards: Monetary-Based Industry Size Standards | 3245-AI12
182 | Small Business Size Standards: Employee-Based Industry Size Standards | 3245-AI13

Small Business Administration (SBA) | Proposed Rule Stage

180. EXPORT WORKING CAPITAL PROGRAM [3245-AI07]

Legal Authority: 15 U.S.C. 636(a)

Abstract: SBA will publish a notice of proposed rulemaking to enhance the Export Working Capital Program (EWCP). The revisions concern (1) increasing the maximum maturity on an EWCP loan from 3-years to 5-years; (2) changing the regulations to allow EWCP loan proceeds to be used to finance export transactions or support companies who engage in export transactions by providing working capital against their accounts receivable and inventory; (3) allowing use of proceeds for asset-based working capital secured by inventory and accounts receivable; (4) including a de minimis amount of domestic accounts receivable (not to exceed 30%) for EWCP loans used as an asset based line of credit; (5) allow Applicants to submit projections to support the need for facilities supporting pre-shipment working capital; (6) revise the unique requirements for the EWCP to align with industry standards for asset based lending.

Timetable:

Action | Date | FR Cite
NPRM | 07/00/25

Regulatory Flexibility Analysis Required: Yes

Agency Contact: Daniel Pische, National Director of Trade Finance, Office of International Trade, Small Business Administration, 409 Third Street SW, Washington, DC 20416

Phone: 202 321-5666

Email: daniel.pische@sba.gov

RIN: 3245-AI07

181. SMALL BUSINESS SIZE STANDARDS: MONETARY-BASED INDUSTRY SIZE STANDARDS [3245-AI12]

Legal Authority: 15 U.S.C. 632(a)

Abstract: The Small Business Jobs Act of 2010 (Jobs Act) requires SBA to conduct every five years a detailed review of all size standards and to make appropriate adjustments to reflect market conditions. As part of the third 5-year review of size standards under the Jobs Act, in this proposed rule, SBA will evaluate all industries with monetary-based size standards and make necessary adjustments to their size standards. This is one of the two of proposed rules that SBA will issue. SBA will apply its revised Size Standards Methodology, which is available on its website at http://www.sba.gov/size, to this purposed rule.

Timetable:

Action | Date | FR Cite
NPRM | 10/00/25

Regulatory Flexibility Analysis Required: Yes

Agency Contact: Dr. Khem Raj Sharma, Chief, Office of Size Standards, Small Business Administration, 409 Third Street SW, Washington, DC 20416

Phone: 202 205-7189

Fax: 202 205-6390

Email: khem.sharma@sba.gov

RIN: 3245-AI12

182. SMALL BUSINESS SIZE STANDARDS: EMPLOYEE-BASED INDUSTRY SIZE STANDARDS [3245-AI13]

Legal Authority: 15 U.S.C. 632(a)

Abstract: The Small Business Jobs Act of 2010 (Jobs Act) requires SBA to conduct every five years a detailed review of all size standards and to make appropriate adjustments to reflect market conditions. As part of the third 5-year review of size standards under the Jobs Act, in this proposed rule, SBA will evaluate all industries with employee-based size standards and make necessary adjustments to their size standards. This is one of the two of proposed rules that SBA will issue. SBA will apply its revised Size Standards Methodology, which is available on its website at http://www.sba.gov/size, to this purposed rule

Timetable:

Action | Date | FR Cite
NPRM | 10/00/25

Regulatory Flexibility Analysis Required: Yes

Agency Contact: Dr. Khem Raj Sharma, Chief, Office of Size Standards, Small Business Administration, 409 Third Street SW, Washington, DC 20416

Phone: 202 205-7189

Fax: 202 205-6390

Email: khem.sharma@sba.gov

RIN: 3245-AI13

[FR Doc. 2025-18335 Filed 9-19-25; 8:45 am]

BILLING CODE 8026-03-P